FEDERAL COMMUNICATIONS COMMISSION

[GN Docket No. 24-248; DA 24-815; FR ID 240542]

Information Sought on Sharing in the 18 GHz Band in Connection With the National Spectrum Strategy Implementation Plan

AGENCY: Federal Communications Commission.

ACTION: Notice.

SUMMARY: In this document, the Federal Communications Commission's Space and Wireless Telecommunications Bureaus and the Offices of International Affairs and Engineering and Technology seek information on sharing in the 18 GHz band in connection with the National Spectrum Strategy Implementation Plan.

DATES: Comments are due by September 5, 2024. Reply comments are due by September 16, 2024.

ADDRESSES: You may submit comments, identified by GN Docket No. 24-248, by any of the following methods:

Federal Communications Commission's Website: https://apps.fcc.gov/ecfs/. Follow the instructions for submitting comments.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document. To request materials in accessible formats for people with disabilities, send an email to FCC504@fcc.gov or call the Consumer & Governmental Affairs Bureau at 202-418-0530 (voice), 202-418-0432 (TTY).

FOR FURTHER INFORMATION CONTACT: Bahman Badipour, Office of Engineering and Technology, 202-418-7814, bahman.badipour@fcc.gov.

SUPPLEMENTARY INFORMATION: This is a summary of the Commission's document, DA 24-248, released August 16, 2024, by the Space and Wireless Telecommunications Bureaus and the Offices of Engineering and Technology and International Affairs under delegated authority pursuant to 47 CFR 0.31, 0.131, 0.261, and 0.351. The full text of the document is available at https://www.fcc.gov/document/fcc-seeks-information-sharing-18-ghz-band.

Comment Filing Requirements

Interested parties may file comments and reply comments on or before the dates indicated in the DATES section above. Comments may be filed using the Commission's Electronic Comment Filing System (ECFS).

• Electronic Filers. Comments may be filed electronically using the internet by accessing the ECFS, http://apps.fcc.gov/ecfs.

• Paper Filers. Parties who choose to file by paper must file an original and one copy of each filing. Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701. U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

• Persons with Disabilities. To request materials in accessible formats for people with disabilities (braille, large print, electronic files, audio format), send an email to fcc504@fcc.gov or call the Consumer & Governmental Affairs Bureau at 202-418-0530 (voice) or 202-418-0432 (TTY).

Synopsis

The Space Bureau, Wireless Telecommunications Bureau, the Office of International Affairs, and the Office of Engineering and Technology (collectively Bureaus/Offices) seek to further develop the record for the 18.1-18.6 GHz band (18 GHz band) with the goal of informing the forthcoming report mandated by the National Spectrum Strategy (NSS) Implementation Plan. The NSS identified the 18 GHz band as a potential band for expanded Federal and non-Federal satellite operations, consistent with the U.S. position at the 2023 World Radiocommunication Conference (WRC-23), which would add space-to-space allocations to this band (among others). Fixed-Satellite Service (FSS) downlink operations are currently authorized in the band. In addition, non-Federal Fixed Service is authorized in the 18.1-18.3 GHz segment of the band. The final report with findings is to be completed by May 2025.

Background. In 2006, the Federal Communications Commission (Commission) released the Report and Order rechannelizing the 17.7-19.7 GHz band for Fixed Microwave Services under part 101 of the Commission's rules (71 FR 69039, Nov. 29, 2006) (18 GHz R&O). As part of the 18 GHz R&O, the Commission adopted a revised band plan for the 17.7-18.3 and 19.3-19.7 GHz band, designated a contiguous 600 megahertz block of one way spectrum from 17.7-18.3 GHz for use by multichannel video programming distributors (MVPDs), and protected certain federal earth stations in the FSS (space-to-Earth) in the 17.7-17.8 GHz band. United States federal systems are authorized to operate in the 17.8-20.2 GHz band in accordance with footnote US334 in the United States Table of Frequency Allocations. Coordination between non-federal operations, both terrestrial and satellite, and these federal operations remain in effect.

WRC-23 and 18 GHz. Under Agenda Item 1.17 of WRC-23, the Conference considered appropriate regulatory actions for the provision of inter-satellite links in the frequency bands 11.7-12.7 GHz, 18.1-18.6 GHz, 18.8-20.2 GHz and 27.5-30.0 GHz. During the ITU-R study cycle leading up to the Conference, the United States and other administrations developed extensive sharing and compatibility studies to assess the feasibility of introducing satellite-to-satellite links in the 18 GHz band, among others. Based on these studies, at WRC-23 the United States and other member states of the Inter-American Telecommunication Commission (CITEL) supported a common regional proposal to add an inter-satellite service allocation in bands including the 18 GHz band, under certain conditions. WRC-23 ultimately adopted inter-satellite service allocations in the 18 GHz and other bands in the International Table of Frequency Allocations subject to a new Resolution and additional restrictions.

WRC-15 NPRM and 18.142-18.3 GHz. In April 2023, the Commission sought comment on whether it should raise the non-Federal secondary FSS (space-to-Earth) allocation in the 18.142-18.3 GHz band to primary status, i.e., co-equal with the non-Federal primary fixed service allocation in the band (88 FR 67160, Sept. 29, 2023). If adopted, this upgrade of allocation status would provide receiving earth stations with interference protection from later-licensed fixed stations that are used for part 74 and part 101 Multichannel Video Programming Distributor (MVPD) and part 78 cable television relay service (CARS) operations that operate in accordance with the proposed rules in this section.

National Spectrum Strategy. The NSS identifies the 18 GHz band as a band for further study. The NSS Implementation Plan establishes a schedule under which a band study would be completed by February 2025 and a final report issued by May 2025. In order to aid the band study and report preparation, the Bureaus/Offices seek public input on various issues relating to current or potential uses of the 18 GHz band. Specifically, the Bureaus/Offices seek comment on whether the assumptions and analysis on which the WRC-23 decision was based are still valid. Commenters advocating that the NSS band study should be based on different assumptions or analysis should provide detailed technical information describing why they disagree with the previous work and what assumptions they favor and their preferred analysis method. The Bureaus/Offices also seek comment on the use cases operators in the 18 GHz band plan to support and what regulatory changes are needed to implement any allocation changes supported by the record. In addition, the Bureaus/Offices seek comment on whether the separately pending proposal to elevate the non-Federal FSS allocation in the 18.142-18.3 GHz band to primary status would affect a new space allocation in the 18 GHz band. The record developed in response to the Public Notice will be publicly available in GN Docket No. 24-248 and shared with the NTIA and other interested agencies.

Federal Communications Commission.
Troy Tanner,
Acting Chief, Office of International Affairs.

[FR Doc. 2024-19068 Filed 9-6-24; 8:45 am]

BILLING CODE 6712-01-P